DEPARTMENT OF ENERGY

Federal Energy Regulatory Commission

Combined Notice of Filings #1

Take notice that the Commission received the following exempt wholesale generator filings:

Docket Numbers: EG22-9-000.

Applicants: PGR 2021 Lessee 2, LLC.

Description: Self-Certification of PGR 2021 Lesee2, LLC.

Filed Date: 10/15/21.

Accession Number: 20211015-5224.

Comment Date: 5 p.m. ET 11/5/21.

Docket Numbers: EG22-10-000.

Applicants: Beulah Solar, LLC.

Description: Self-Certification of EG or FC of Beulah Solar, LLC.

Filed Date: 10/15/21.

Accession Number: 20211015-5227.

Comment Date: 5 p.m. ET 11/5/21.

Take notice that the Commission received the following electric rate filings:

Docket Numbers: ER10-3196-002; ER11-2041-016; ER11-2042-016; ER11-2514-004; ER14-1317-010.

Applicants: PEI Power II, LLC, PEI Power Corporation, Sunshine Gas Producers, LLC, Seneca Energy, II LLC, Innovative Energy Systems, LLC.

Description: Notice of Change in Status of PEI Power Corporation, et al.

Filed Date: 10/15/21.

Accession Number: 20211015-5226.

Comment Date: 5 p.m. ET 11/5/21.

Docket Numbers: ER14-1400-001.

Applicants: Seneca Generation, LLC.

Description: Compliance filing: Informational Filing Regarding Upstream Transfer of Ownership to be effective N/A.

Filed Date: 10/18/21.

Accession Number: 20211018-5134.

Comment Date: 5 p.m. ET 11/8/21.

Docket Numbers: ER17-1821-004.

Applicants: Panda Stonewall LLC.

Description: Refund Report: Refund Report Under Docket ER17-1821 to be effective N/A.

Filed Date: 10/18/21.

Accession Number: 20211018-5145.

Comment Date: 5 p.m. ET 11/8/21.

Docket Numbers: ER18-1738-001.

Applicants: Bath County Energy, LLC.

Description: Compliance filing: Informational Filing Regarding Upstream Transfer of Ownership to be effective N/A.

Filed Date: 10/19/21.

Accession Number: 20211019-5000.

Comment Date: 5 p.m. ET 11/9/21.

Docket Numbers: ER20-1424-002.

Applicants: Yards Creek Energy, LLC.

Description: Compliance filing: Informational Filing Regarding Upstream Transfer of Ownership to be effective N/A.

Filed Date: 10/18/21.

Accession Number: 20211018-5137.

Comment Date: 5 p.m. ET 11/8/21.

Docket Numbers: ER20-1776-002.

Applicants: Yards Creek Energy, LLC.

Description: Compliance filing: Informational Filing Regarding Upstream Transfer of Ownership to be effective N/A.

Filed Date: 10/19/21.

Accession Number: 20211019-5005.

Comment Date: 5 p.m. ET 11/9/21.

Docket Numbers: ER21-1215-001.

Applicants: Assembly Solar I, LLC.

Description: Compliance filing: Informational Filing Regarding Upstream Change in Control to be effective N/A.

Filed Date: 10/19/21.

Accession Number: 20211019-5104.

Comment Date: 5 p.m. ET 11/9/21.

Docket Numbers: ER21-2449-001.

Applicants: Assembly Solar II, LLC.

Description: Compliance filing: Informational Filing Regarding Upstream Change in Control to be effective N/A.

Filed Date: 10/19/21.

Accession Number: 20211019-5103.

Comment Date: 5 p.m. ET 11/9/21.

Docket Numbers: ER21-2499-001.

Applicants: Duke Energy Progress, LLC, Duke Energy Florida, LLC, Duke Energy Carolinas, LLC.

Description: Compliance filing: Duke Energy Progress, LLC submits tariff filing per 35: Compliance Filing—Order No. 676-I to be effective 12/31/9998.

Filed Date: 10/19/21.

Accession Number: 20211019-5120.

Comment Date: 5 p.m. ET 11/9/21.

Docket Numbers: ER22-137-000.

Applicants: Basin Electric Power Cooperative.

Description: § 205(d) Rate Filing: Basin Electric Submission of Revised Rate Schedule A to be effective 1/1/2022.

Filed Date: 10/18/21.

Accession Number: 20211018-5135.

Comment Date: 5 p.m. ET 11/8/21.

Docket Numbers: ER22-138-000.

Applicants: Bath County Energy, LLC, Seneca Generation, LLC, Yards Creek Energy, LLC.

Description: Request for Limited Waiver and Expedited Consideration of the 90-day prior notification requirement in the PJM Interconnection LLC Open Access Transmission Tariff, of Bath County Energy, et al.

Filed Date: 10/18/21.

Accession Number: 20211018-5144.

Comment Date: 5 p.m. ET 11/8/21.

Docket Numbers: ER22-139-000.

Applicants: San Diego Gas & Electric Company.

Description: Informational Filing of Transmission Owner Rate Appendix X [Cycle 10] of San Diego Gas & Electric Company.

Filed Date: 10/14/21.

Accession Number: 20211014-5177.

Comment Date: 5 p.m. ET 11/4/21.

Docket Numbers: ER22-140-000.

Applicants: Dominion Energy South Carolina, Inc.

Description: § 205(d) Rate Filing: Columbia Hydro CIAC to be effective 10/7/2021.

Filed Date: 10/19/21.

Accession Number: 20211019-5031.

Comment Date: 5 p.m. ET 11/9/21.

Docket Numbers: ER22-141-000.

Applicants: AEP Texas Inc.

Description: § 205(d) Rate Filing: AEPTX-BT Cantwell Solar (Arroyo Solar) GIA to be effective 9/28/2021.

Filed Date: 10/19/21.

Accession Number: 20211019-5035.

Comment Date: 5 p.m. ET 11/9/21.

Docket Numbers: ER22-142-000.

Applicants: AEP Texas Inc.

Description: § 205(d) Rate Filing: AEPTX-Peacock Energy Project (Jackalope Solar) GIA to be effective 9/30/2021.

Filed Date: 10/19/21.

Accession Number: 20211019-5043.

Comment Date: 5 p.m. ET 11/9/21.

Docket Numbers: ER22-143-000.

Applicants: AEP Texas Inc.

Description: § 205(d) Rate Filing: AEPTX-Shakes Solar 5th A&R Generation Interconnection Agreement to be effective 10/5/2021.

Filed Date: 10/19/21.

Accession Number: 20211019-5048.

Comment Date: 5 p.m. ET 11/9/21.

Docket Numbers: ER22-144-000.

Applicants: AEP Texas Inc.

Description: § 205(d) Rate Filing: AEPTX-BRP Antlia BESS 1st A&R Generation Interconnection Agreement to be effective 10/5/2021.

Filed Date: 10/19/21.

Accession Number: 20211019-5055.

Comment Date: 5 p.m. ET 11/9/21.

Docket Numbers: ER22-145-000.

Applicants: Avista Corporation.

Description: § 205(d) Rate Filing: Avista Corp OATT Att K Revisions to be effective 1/1/2022.

Filed Date: 10/19/21.

Accession Number: 20211019-5060.

Comment Date: 5 p.m. ET 11/9/21.

Docket Numbers: ER22-146-000.

Applicants: New York State Electric & Gas Corporation.

Description: § 205(d) Rate Filing: NYSEG-DCEC Attachment C Annual Update to be effective 1/1/2022.

Filed Date: 10/19/21.

Accession Number: 20211019-5093.

Comment Date: 5 p.m. ET 11/9/21.

Docket Numbers: ER22-147-000.

Applicants: Alabama Power Company.

Description: § 205(d) Rate Filing: Double Run Solar (Double Run Solar & Battery) LGIA Filing to be effective 10/4/2021.

Filed Date: 10/19/21.

Accession Number: 20211019-5100.

Comment Date: 5 p.m. ET 11/9/21.

Docket Numbers: ER22-148-000.

Applicants: Assembly Solar I, LLC, Assembly Solar II, LLC.

Description: Request for Prospective Tariff Waiver, et al. of Assembly Solar I, LLC.

Filed Date: 10/19/21.

Accession Number: 20211019-5106.

Comment Date: 5 p.m. ET 11/9/21.

Docket Numbers: ER22-149-000.

Applicants: Sagebrush Line, LLC.

Description: Baseline eTariff Filing: Market-Based Rate Application to be effective 12/20/2021.

Filed Date: 10/19/21.

Accession Number: 20211019-5107.

Comment Date: 5 p.m. ET 11/9/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 19, 2021.
Debbie-Anne A. Reese,
Deputy Secretary.

[FR Doc. 2021-23221 Filed 10-22-21; 8:45 am]

BILLING CODE 6717-01-P